DEPARTMENT OF JUSTICE

Notice of Lodging of Consent Decree Pursuant to the Comprehensive Environmental Response, Compensation, and Liability Act Resolving U.S. v. IBP Inc. (D. Nebraska)

In accordance with Departmental policy, 28 CFR 50.7, notice is hereby given that on October 12, 2001, the United States, on behalf of the United States Environmental Protection Agency (“EPA”) lodged with the United States District Court for the District of Nebraska a Consent Decree resolving the United States' claims against defendant the IBP, Inc. in this action. This Consent Decree, together with the Partial Consent Decree for Interim Injunctive Relief entered in 2000, will fully resolve the United States' Complaint filed on January 12, 2000 in the District of Nebraska, alleging violations by IBP, Inc. [sic] (“IBP”) of the Clean Air Act, 42 U.S.C. 7401 et seq.; the Clean Water Act, 33 U.S.C. 1311 et seq.; the Resource Conservation and Recovery Act, 42 U.S.C. 6901 et seq.; the Comprehensive Environmental Response, Compensation and Liability Act, 42 U.S.C. 9601 et seq.; and the Emergency Planning and Community Right-To-Know Act, 42 U.S.C. 11001 et seq., at its Dakota City Nebraska slaughterhouse facility. IBP is the world's largest producer of fresh beef, pork, and related products. The Dakota City facility is IBP's largest plant.

Under the Consent Decree, IBP will pay $4.1 million in civil penalties, and also will spend approximately $10 million in improvements to resolve its violations at the Dakota City facility and for additional projects to further reduce its discharge of pollutants to the air and water. Specifically, IBP has agreed to construct additional wastewater treatment systems at the complex to dramatically reduce its discharges of ammonia to the Missouri River. The systems to be installed by IBP exceed those required to meet the requirements of IBP's current discharge permit, issued in 1995, and are designed to allow the company to meet the anticipated stricter requirements of a new permit to be issued by EPA under the Clean Water Act. IBP further agrees not to contest EPA's authority to issue that permit. IBP also will expand a water treatment project designed to strip its incoming well water of sulfates and ordered under the prior Partial Consent Decree, thereby further reducing the plant's generation of hydrogen sulfide. The State of Nebraska is joining the case as a co-plaintiff on the CAA claims and will share $1.85 million of the penalty, which will be directed to the local school system.

The Department of Justice will receive, for a period of thirty (30) days from the date of this publication, comments relating to the proposed Consent Decree. Comments should be addressed to the Assistant Attorney General for the Environment and Natural Resources Division, Department of Justice, Washington, DC 20530, and should refer to United States v. IBP, DOJ Ref. #90-11-3-06517/1.

The proposed Consent Decree may be examined at the Office of the United States Attorney, District of Nebraska, 1600 Dodge Street, Suite 1400, Omaha, Nebraska 68102-1506; the Region 7 Office of the Environmental Protection Agency, 901 N. 5th St., Kansas City, Kansas 66101. A copy of the proposed Consent Decree may be obtained by mail from the Consent Decree Library, PO Box 7611, United States Department of Justice, Washington, DC 20044-7611. In requesting a copy, please enclose a check in the amount of $26.50 (25 cents per page reproduction cost) payable to the Consent Decree Library.

William D. Brighton,
Assistant Section Chief, Environmental Enforcement Section, Environment and Natural Resources Division.

[FR Doc. 01-28565 Filed 11-14-01; 8:45 am]

BILLING CODE 4410-15-M